DEPARTMENT OF ENERGY

Federal Energy Regulatory Commission

[Project No. 14649-000]

Mid-Atlantic Hydro, LLC; Notice of Preliminary Permit Application Accepted for Filing and Soliciting Comments, Motions To Intervene, and Competing Applications

On December 1, 2014, Mid-Atlantic Hydro, LLC filed an application for a preliminary permit under section 4(f) of the Federal Power Act proposing to study the feasibility of the proposed Ellis Hydroelectric Project No. 14649-000, to be located at the existing Ellis Lock and Dam on the Muskingum River, near the township of Ellis, in Muskingum County, Ohio. The Ellis Lock and Dam is owned and operated by the state of Ohio. There are no federal lands associated with the project. The sole purpose of a preliminary permit, if issued, is to grant the permit holder priority to file a license application during the permit term. A preliminary permit does not authorize the permit holder to perform any land-disturbing activities or otherwise enter upon lands or waters owned by others without the owners' express permission.

The proposed project would consist of: (1) The existing 340-foot-long by 15.3-foot-high Ellis Dam spillway and 352-acre reservoir with a normal elevation of 690 feet mean sea level; (2) five new 500-kilowatt Very Low Head 4000 submersible turbine-generator units with a combined capacity of 2.5 megawatts; (3) a new 40-foot-long by 20-foot-wide switchyard containing a three phase step-up transformer, protective equipment, and metering equipment; (4) a new 150-foot-long, 12.5 to 34.5 kilovolt, overhead transmission line that would connect to an existing local utility distribution system; and (5) appurtenant facilities. The project would have an estimated annual generation of 9,500 megawatt-hours.

Applicant Contact: Mr. John Collins, 5425 Wisconsin Avenue, Suite 600, Chevy Chase, MD 20815, (301) 718-4431.

FERC Contact: Tyrone A. Williams, (202) 502-6331.

Deadline for filing comments, motions to intervene, competing applications (without notices of intent), or notices of intent to file competing applications: 60 days from the issuance of this notice. Competing applications and notices of intent must meet the requirements of 18 CFR 4.36. The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14649-000.

More information about this project, including a copy of the application, can be viewed or printed on the “eLibrary” link of Commission's Web site at http://www.ferc.gov/docs-filing/elibrary.asp. Enter the docket number (P-14649) in the docket number field to access the document. For assistance, contact FERC Online Support.

Dated: March 11, 2015.
Kimberly D. Bose,
Secretary.

[FR Doc. 2015-06082 Filed 3-16-15; 8:45 am]

BILLING CODE 6717-01-P